DEPARTMENT OF THE INTERIOR

Bureau of Land Management

Colorado: Filing of Plats of Survey

June 29, 2007.

SUMMARY: The plats of survey of the following described land was officially filed in the Colorado State Office, Bureau of Land Management, Lakewood, Colorado, effective 10 a.m., June 29, 2007. All inquiries should be sent to the Colorado State Office (CO-956), Bureau of Land Management, 2850 Youngfield Street, Lakewood, Colorado 80215-7093.

The plats and field notes, in duplicate, of the dependent resurveys and corrective dependent resurvey of a portion of the subdivisional lines, the subdivision of certain sections, and metes-and-bounds surveys, in Townships 2 North, Ranges 76 (4 Sheets) and 77 West (5 Sheets), Sixth Principal Meridian, Colorado were accepted on April 10, 2007.

The plat, and field notes, in duplicate, of the dependent resurveys in Townships 17 South, Ranges 45 and 46 West, Sixth Principal Meridian, Colorado were accepted on April 17, 2007.

The plat and field notes, in duplicate, of the dependent resurvey and surveys in Township 51 North, Range 1 East, New Mexico Principal Meridian, Colorado were accepted on April 26, 2007.

This plat which includes the field notes, and is the entire record of this resurvey, in duplicate, in Township 33½ North, Range 17 West, Sec. 21, New Mexico Principal Meridian, Colorado were accepted on April 26, 2007.

The plat and field notes, in duplicate, of the dependent resurvey and surveys in Townships 50 and 51 North, Range 8 West, New Mexico Principal Meridian, Colorado, were accepted on April 27, 2007.

The plat, and field notes, in duplicate, of the dependent resurvey of a portion of the subdivisional lines and section subdivision of Section 23, Township 37 North, Range 7 East, New Mexico Principal Meridian, Colorado were accepted on May 16, 2007.

The plat and field notes, in duplicate, of the dependent resurvey of certain mineral claims in Township 43 North, Range 4 West, New Mexico Principal Meridian, Colorado, were accepted on June 6, 2007.

The plat, and field notes, in duplicate, of the dependent resurvey in Township 8 South, Range 76 West, and the plat, in duplicate, of the entire record, of the dependent resurvey of a portion of the west boundary of Township 9 South, Range 76 West, both of the Sixth Principal Meridian, Colorado were accepted on June 19, 2007.

Randall M. Zanon,
Chief Cadastral Surveyor for Colorado.

[FR Doc. E7-13186 Filed 7-6-07; 8:45 am]

BILLING CODE 4310-JB-P